ENVIRONMENTAL PROTECTION AGENCY

[FRL-6885-2]

Proposed Cercla Agreement and Administrative Order by Consent for Clean Up And Costs

AGENCY: Environmental Protection Agency (EPA).

ACTION: Proposed CERCLA Agreement and Administrative Order by Consent.

SUMMARY: EPA is proposing to execute an Agreement and Administrative Order by Consent (AOC) under sections 106(a) and 122(h) of the Comprehensive Environmental Response, Compensation, and Liability Act of 1980 (CERCLA). The AOC requires Potentially Responsible Parties (PRPs) to conduct a clean up of the Ramona Park Battery Casing Area Superfund Site and reimburse the EPA Hazardous Substances Superfund for all EPA costs of overseeing the clean up (not to exceed $400,000). As part of this settlement, EPA will agree not to pursue from these PRPs approximately $286,836 in past response costs incurred prior to May 14, 1998. It is this portion of the settlement that EPA seeks public comment. In exchange for completing the work required and paying the oversight costs, EPA will provide the PRPs with a covenant not to sue and contribution protection for all costs associated with the Site. EPA is today proposing to accept this agreement because it forwards the Agency's public policy of protecting human health and the environment and recovers a fair and reasonable amount of costs incurred and to be incurred by EPA.

DATES: Comments on the past response cost component of this proposed settlement must be received on or before November 15, 2000.

ADDRESSES: Copies of the proposed settlement are available at the following address for review: (It is recommended that you telephone Mr. Stuart Hill at (312) 886-0689 before visiting the Region 5 Office).

Mr. Stuart Hill, Community Involvement Coordinator, Office of Public Affairs, U.S. Environmental Protection Agency, Region 5, 77 W. Jackson Boulevard (P-19J), Chicago, Illinois 60604 (312) 886-0689.

Comments on this proposed settlement should be addressed to:

Mr. Stuart Hill, Community Involvement Coordinator, Office of Public Affairs, U.S. Environmental Protection Agency, Region 5, 77 W. Jackson Boulevard (P-19J), Chicago, Illinois 60604, (312) 886-0689. (Please submit an original and three copies, if possible).

FOR FURTHER INFORMATION CONTACT: Mr. Stuart Hill, Office of Public Affairs, at (312) 886-0689.

SUPPLEMENTARY INFORMATION: The Site is an approximately five and one-half acre area located in a residential-recreational area at 6255 Auburn Road in Utica, Macomb County, Michigan. The Site is situated in the flood plain of the Clinton River and contains a significant quantity of lead-acid battery casings. The PRPs that have signed this AOC include the current property owner and parties that are alleged to have arranged for the disposal of lead batteries through a lead reclaiming operation which disposed of the contaminated casings at the Site. These PRPs are Ameritech Corporation (Michigan Bell Telephone), Auburn Supply Company, DaimlerChrysler Corporation, Detroit Edison Company, Exide Corporation, Ford Motor Corporation, General Motors Corporation, and NL Industries, Inc. A federal government agency, the Defense Logistics Agency, is also signing this AOC, and is referred to in the AOC as the Settling Federal Agency.

The proposed AOC requires the Respondents to excavate, treat and dispose off-site in appropriate landfills all soil and other debris on-site containing lead in concentrations of equal to or greater than 400 parts per million (ppm). Respondents will also conduct post removal testing for lead on-site to demonstrate that the removal action achieved the clean-up goal. Respondents will reimburse EPA for all costs of overseeing the removal action (since July 9, 1999) up to a cap of $400,000. The Settling Federal Agency will pay $50,000 to the Respondents for use on the removal action and $50,000 to the Hazardous Substances Superfund for future oversight costs. As part of the settlement, EPA will not pursue its past response costs (incurred prior to May 14, 1998) of $286,836.25 from the Respondents or the Settling Federal Agency.

William E. Muno,
Director, Superfund Division, Environmental Protection Agency.

[FR Doc. 00-26507 Filed 10-13-00; 8:45 am]

BILLING CODE 6560-50-U